DEPARTMENT OF ENERGY

Federal Energy Regulatory Commission

Combined Notice of Filings #1

Take notice that the Commission received the following exempt wholesale generator filings:

Docket Numbers: EG12-62-000.

Applicants: Canadian Hills Wind, LLC.

Description: Notice of Self-Certification of Exempt Wholesale Generator Status of Canadian Hills Wind, LLC.

Filed Date: 4/26/12.

Accession Number: 20120426-5240.

Comments Due: 5 p.m. ET 5/17/12

Take notice that the Commission received the following electric rate filings:

Docket Numbers: ER12-513-004.

Applicants: PJM Interconnection, LLC.

Description: PJM Interconnection, LLC submits tariff filing per 35: Compliance Filing per 4/11/2012 Order in ER12-513 to be effective 1/31/2012 to be effective 1/31/2012.

Filed Date: 4/26/12.

Accession Number: 20120426-5262.

Comments Due: 5 p.m. ET 5/17/12.

Docket Numbers: ER12-513-005.

Applicants: PJM Interconnection, LLC.

Description: PJM Interconnection, LLC submits tariff filing per 35: Compliance Filing per 4/11/2012 Order in ER12-513 to be effective 6/30/2012 to be effective 6/30/2012.

Filed Date: 4/26/12.

Accession Number: 20120426-5266.

Comments Due: 5 p.m. ET 5/17/12.

Docket Numbers: ER12-1626-000.

Applicants: Topaz Solar Farms LLC.

Description: Topaz Solar Farms LLC submits tariff filing per 35.12: Topaz Solar Farm MBR Application to be effective 6/25/2012.

Filed Date: 4/26/12.

Accession Number: 20120426-5239.

Comments Due: 5 p.m. ET 5/17/12.

Docket Numbers: ER12-1627-000.

Applicants: ISO New England Inc.

Description: ISO New England Inc. submits tariff filing per 35.13(a)(2)(iii: MR1 Price Responsive Demand FCM Conf. Chges for Full Integration to be effective 1/15/2013.

Filed Date: 4/26/12.

Accession Number: 20120426-5264.

Comments Due: 5 p.m. ET 5/17/12.

Docket Numbers: ER12-1628-000.

Applicants: Arizona Public Service Company.

Description: Arizona Public Service Company submits tariff filing per 35.13(a)(2)(iii: Amendment 5 to Service Agreement No. 174; Gila River and Sundevil IOA to be effective 4/15/2012.

Filed Date: 4/26/12.

Accession Number: 20120426-5276.

Comments Due: 5 p.m. ET 5/17/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 27, 2012.
Nathaniel J. Davis, Sr.,
Deputy Secretary.

[FR Doc. 2012-10975 Filed 5-7-12; 8:45 am]

BILLING CODE 6717-01-P